DEPARTMENT OF TRANSPORTATION

[Docket Number: RITA-2008-0002]

Office of the Assistant Secretary for Research and Technology (OST-R); Agency Information Collection Activity; Notice of Renewal To Continue To Collect Information: Confidential Close Call Reporting for a Transit System

AGENCY: Bureau of Transportation Statistics (BTS), Office of the Assistant Secretary for Research Technology (OST-R), U.S. Department of Transportation.

ACTION: Notice and request for comments.

SUMMARY: In accordance with the requirements of section 3506(c)(2)(A) of the Paperwork Reduction Act of 1995, this notice announces the intention of the BTS to request the Office of Management and Budget (OMB) to approve the continuation of the following information collection: Confidential Close Call Reporting for a Transit System. This data collection effort supports a multi-year program focused on improving transit safety by collecting and analyzing data and information on close calls and other unsafe occurrences in the Washington Metropolitan Area Transit Authority (WMATA) system. The program is co-sponsored by WMATA's Office of the Deputy General Manager Operations (DGMO) and the President/Business Agent of the Amalgamated Transit Union (ATU) Local 689. It is designed to identify safety issues and propose preventative safety actions based on voluntary reports of close calls submitted confidentially to the Bureau of Transportation Statistics (BTS), U.S. Department of Transportation. This information collection is necessary to aid WMATA/ATU in systematically collecting and analyzing data to identify root causes of potentially unsafe events.

DATES: Comments must be received by January 8, 2016.

ADDRESSES: BTS seeks public comments on its proposed continuation of information collection. Comments should address whether the information will have practical utility; the accuracy of the estimated burden hours of the proposed information collection; ways to enhance the quality, utility and clarity of the information to be collected; and ways to minimize the burden of the collection of information on respondents, including the use of automated collection techniques or other forms of information technology. Send comments to the Office of Information and Regulatory Affairs, Office of Management and Budget, 725 17th Street NW., Washington, DC 20503, Attention: BTS Desk Officer.

FOR FURTHER INFORMATION CONTACT: Demetra V. Collia, Bureau of Transportation Statistics, Office of the Assistant Secretary for Research and Technology (OST-R), U.S. Department of Transportation, Office of Statistical and Economic Analysis (OSEA), RTS-31, E36-302, 1200 New Jersey Avenue SE., Washington, DC 20590-0001; Phone No. (202) 366-1610; Fax No. (202) 366-3383; email: demetra.collia@dot.gov. Office hours are from 8:30 a.m. to 5 p.m., EST, Monday through Friday, except Federal holidays.

Data Confidentiality Provisions: The confidentiality of Close Calls data is protected under the BTS confidentiality statute (49 U.S.C. 111(k)) and the Confidential Information Protection and Statistical Efficiency Act (CIPSEA) of 2002 (Pub. L. 107-347, Title V). In accordance with these confidentiality statutes, only statistical and non-identifying data will be made publicly available through reports. Further, BTS will not release to FRA or any other public or private entity any information that might reveal the identity of individuals or organizations mentioned in close call reports.

SUPPLEMENTARY INFORMATION:

I. The Data Collection

The Paperwork Reduction Act of 1995 (44 U.S.C. Chapter 35; as amended) and 5 CFR part 1320 require each Federal agency to obtain OMB approval to continue an information collection activity. BTS is seeking OMB approval for the following BTS information collection activity:

Title: Confidential Close Call Reporting for a Transit System.

OMB Control Number: 2139- 0010.

Type of Review: Approval to continue to collect data.

Respondents: WMATA Employees.

Number of Respondents: 100 (per annum).

Estimated Time per Response: 60 minutes.

Frequency: Intermittent for approximately five (5) years. (Reports are submitted when there is a qualifying event, i.e. a close call occurs within WMATAs Transit System.

Total Annual Burden: 100 hours.

Please note that the 60 day notice was incorrectly posted as a Notice of Request for approval to Collect New Information: Confidential Close Call Reporting for Transit System. Also, the Confidential Close Call Program has been renamed the Close Call Data Program (CCDP). Confidential Close Call Reporting and CCDP are one in the same in all other aspects identical.

II. Public Participation and Request for Public Comments

On September 1, 2015, BTS published a notice (80 FR 52846) encouraging interested parties to submit comments to docket number RITA-2008-0002 and allowing for a 60-day comment period. The comment period closed on November 2, 2015. To view comments, go to http://www.regulations.gov and insert the docket number, “RITA-2008-0002” in the “Search” box and click “Search.” Next, click “Open Docket Folder” button and choose document listed to review. If you do not have access to the Internet, you may view the docket by visiting the Docket Management Facility in Room W12-140 on the ground floor of the DOT West Building, 1200 New Jersey Avenue SE., Washington, DC 20590, between 9 a.m. and 5 p.m. Monday through Friday, except Federal holidays.

Privacy Act

All comments the BTS received were posted without change to http://www.regulations.gov. Anyone may search the electronic form of all comments received into any of our dockets by the name of the individual submitting the comment (or of the person signing the comment, if submitted on behalf of an association, business, labor union, etc.). You may review DOT's complete Privacy Act Statement in the Federal Register published on January 17, 2008 (73 FR 3316), or you may visit http://edocket.access.gpo.gov/2008/pdf/E8-785.pdf.

III. Discussion of Public Comments and BTS Responses

BTS announced on September 1, 2015, in a Federal Register Notice (80 FR 52846), its intention to request that OMB approve the following continuation of information collection: Confidential Close Call Reporting for a Transit System. BTS received no comments during the 60-day public comment period.

Issued on: December 2, 2015.
Patricia Hu,
Director, Bureau of Transportation Statistics, Office of the Assistant Secretary for Research and Technology.

[FR Doc. 2015-30996 Filed 12-8-15; 8:45 am]

BILLING CODE 4910-HY-P